DEPARTMENT OF THE INTERIOR

National Park Service

[NPS-WASO-NAGPRA-12277; 2200-1100-665]

Notice of Intent To Repatriate Cultural Items: San Francisco State University NAGPRA Program, San Francisco, CA

AGENCY: National Park Service, Interior.

ACTION: Notice.

SUMMARY: The San Francisco State University NAGPRA Program, in consultation with the appropriate Indian tribe, has determined that the cultural items meet the definition of sacred objects and objects of cultural patrimony and repatriation to the Indian tribe stated below may occur if no additional claimants come forward. Representatives of any Indian tribe that believes itself to be culturally affiliated with the cultural items may contact the San Francisco State University NAGPRA Program.

DATES: Representatives of any Indian tribe that believes it has a cultural affiliation with the cultural items should contact the San Francisco State University NAGPRA Program at the address below by April 1, 2013.

ADDRESSES: Jeffrey Boland Fentress, San Francisco State University NAGPRA Program, c/o Department of Anthropology, San Francisco State University, 1600 Holloway Avenue, San Francisco, CA 94132, telephone (415) 338-3075.

SUPPLEMENTARY INFORMATION: Notice is here given in accordance with the Native American Graves Protection and Repatriation Act (NAGPRA), 25 U.S.C. 3005, of the intent to repatriate cultural items in the possession of the San Francisco State University NAGPRA Program that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Based on the request for repatriation submitted by the Dry Creek Rancheria Band of Pomo Indians, California (previously listed as the Dry Creek Rancheria of Pomo Indians of California), each of the objects below meet the definition of either sacred objects or objects of cultural patrimony under 25 U.S.C. 3001 and 43 CFR 10.2 (d)(2)(ii), (d)(3), or (d)(4). Through the summary, consultation, and notification procedures in 43 CFR 10.14, the cultural affiliation of the cultural items below with the Dry Creek Rancheria Band of Pomo Indians, California (previously listed as the Dry Creek Rancheria of Pomo Indians of California) was established.

In 1965, 12 cultural items were removed from sites CA-SON-408 and CA-SON-409 in Sonoma County, CA, by San Francisco State University during an archaeological survey by A.E. Treganza of San Francisco State University. The artifacts were catalogued under both site numbers; it is unknown which artifacts came from which site. Based on consultation and ethnographic research, the sacred object and object of cultural patrimony is 1 clay pipe fragment. Based on consultation and ethnographic research, the objects of cultural patrimony are 4 obsidian tools or flakes, 5 chert tools or flakes, and 2 crab claws. The age of site CA-SON-408 and CA-SON-409 is unknown but the site is located within the historically documented territory of Dry Creek Rancheria Band of Pomo Indians, California (previously listed as the Dry Creek Rancheria of Pomo Indians of California).

At an unknown date, 1 cultural item, a pestle, was removed from site CA-SON-UNK (Dry Creek) in Sonoma County, CA. At an unknown date, the pestle labeled “Dry Creek near Healdsburg, CA” was donated to the San Francisco State University, Department of Anthropology, by an unknown person. Based on consultation and ethnographic research, the pestle is an object of cultural patrimony. The age of site CA-SON-UNK (Dry Creek) is unknown but the site is located within the historically documented territory of Dry Creek Rancheria Band of Pomo Indians, California (previously listed as the Dry Creek Rancheria of Pomo Indians of California).

In 1965, 2 lots of cultural items were removed from unknown archaeological sites, CA-SON-UNK (Knights Valley), in Sonoma County, CA, by San Francisco State University during an archaeological survey by A.E. Treganza of San Francisco State University. Based on consultation and ethnographic research, the objects of cultural patrimony are 1 lot of approximately 10 obsidian tools or flakes and 1 lot of approximately 4 chert tools or flakes. The age of site CA-SON-UNK (Knights Valley) is unknown but the site is located within the historically documented territory of the Dry Creek Rancheria Band of Pomo Indians, California (previously listed as the Dry Creek Rancheria of Pomo Indians of California).

Determinations Made by the San Francisco State University NAGPRA Program

Officials of the San Francisco State University NAGPRA Program have determined that:

• Pursuant to 25 U.S.C. 3001(3)(C), the 1 sacred object and object of cultural patrimony described above is a specific ceremonial object needed by traditional Native American religious leaders for the practice of traditional Native American religions by their present-day adherents and this cultural item is also an object of cultural patrimony has ongoing historical, traditional, or cultural importance central to the Native American group or culture itself, rather than property owned by an individual.

• Pursuant to 25 U.S.C. 3001(3)(D), the 12 individual and 2 lots of objects of cultural patrimony described above have ongoing historical, traditional, or cultural importance central to the Native American group or culture itself, rather than property owned by an individual.

• Pursuant to 25 U.S.C. 3001(2), there is a relationship of shared group identity that can be reasonably traced between the sacred object and object of cultural patrimony, and the objects of cultural patrimony and the Dry Creek Rancheria Band of Pomo Indians, California (previously listed as the Dry Creek Rancheria of Pomo Indians of California).

Additional Requestors and Disposition

Representatives of any other Indian tribe that believes itself to be culturally affiliated with the sacred object and object of cultural patrimony, or the objects of cultural patrimony should contact Jeffrey Boland Fentress, San Francisco State University NAGPRA Program, c/o Department of Anthropology, San Francisco State University, 1600 Holloway Avenue, San Francisco, CA 94132, telephone (415) 338-3075 before April 1, 2013. Repatriation of the sacred object and object of cultural patrimony and the objects of cultural patrimony to the Dry Creek Rancheria Band of Pomo Indians, California (previously listed as the Dry Creek Rancheria of Pomo Indians of California) may proceed after that date if no additional claimants come forward.

The San Francisco State University NAGPRA Program is responsible for notifying the Dry Creek Rancheria Band of Pomo Indians, California (previously listed as the Dry Creek Rancheria of Pomo Indians of California) that this notice has been published.

February 5, 2013.
Sherry Hutt,
Manager, National NAGPRA Program.

[FR Doc. 2013-04772 Filed 2-28-13; 8:45 am]

BILLING CODE 4312-50-P